EQUAL EMPLOYMENT OPPORTUNITY COMMISSION

Sunshine Act Meeting

AGENCY HOLDING THE MEETING: Equal Employment Opportunity Commission.

“FEDERAL REGISTER” CITATION OF PREVIOUS ANNOUNCEMENT: 65 Fed. Reg. 56311, September 18, 2000.

PREVIOUSLY ANNOUNCED TIME AND DATE OF MEETING: Tuesday, September 26, 2000, at 1 p.m. (Eastern Time).

CHANGE IN THE MEETING: The meeting has been cancelled.

CONTACT PERSON FOR MORE INFORMATION: Frances M. Hart, Executive Officer on (202) 663-4070.

This notice issued September 26, 2000.
Frances M. Hart,
Executive Officer, Executive Secretariat.

[FR Doc. 00-24998 Filed 9-26-00; 11:40 am]

BILLING CODE 6750-06-M